DEPARTMENT OF DEFENSE

Office of the Secretary

Amendment of the Threat Reduction Advisory Committee

AGENCY: DoD.

ACTION: Amendment of Federal Advisory Committee.

SUMMARY: Under the provisions of the Federal Advisory Committee Act of 1972 (5 U.S.C. Appendix), the Government in the Sunshine Act of 1976 (5 U.S.C. 552b), and 41 CFR 102-3.50(d), the Department of Defense gives notice that it is amending the charter for the Threat Reduction Advisory Committee (“the Committee”). The Committee has been determined to be in the public interest.

FOR FURTHER INFORMATION CONTACT: Jim Freeman, Advisory Committee Management Officer for the Department of Defense, 703-692-5952.

SUPPLEMENTARY INFORMATION: The Committee shall provide independent advice and recommendations on matters relating to combating Weapons of Mass Destruction (WMD), as set forth in this notice. The Committee shall provide the Secretary of Defense, through the Under Secretary of Defense for Acquisition, Technology, and Logistics (USD(AT&L)) and the Assistant Secretary of Defense for Nuclear, Chemical and Biological Defense Programs (ASD(NCB)), independent advice and recommendations on:

a. Reducing the threat to the United States, its military forces, and its allies and partners posed by nuclear, biological, chemical, conventional, and special weapons.

b. Combating WMD to include non-proliferation, counterproliferation, and consequence management.

c. Nuclear deterrence transformation, nuclear material lockdown and accountability.

d. Nuclear weapons effects.

e. The nexus of counterproliferation and counter WMD terrorism.

f. Other AT&L; NCB; and Defense Threat Reduction Agency mission-related matters, as requested by the USD(AT&L).

The Committee shall be composed of not more than 21 members who are eminent authorities in the fields of national defense, geopolitical and national security affairs, WMD, nuclear physics, chemistry, and biology.

The Committee members are appointed by the Secretary of Defense, and their appointments will be renewed on an annual basis. The Committee members who are not full-time or permanent part-time Federal officers or employees, shall be appointed as experts and consultants under the authority of 5 U.S.C. 3109 to serve as special government employee (SGE) members, with annual renewals.

Committee members shall, with the exception of travel and per diem for official travel, serve without compensation, unless authorized by the Secretary of Defense.

The Under Secretary of Defense for Acquisition, Technology, and Logistics and the Assistant Secretary of Defense for Nuclear, Chemical and Biological Defense Programs shall select the Committee's Chairperson and Vice Chairperson from the Committee membership at large.

The Secretary of Defense may approve the appointment of Committee members for one-to-four year terms of service; however, no member, unless authorized by the Secretary of Defense, may serve more than two consecutive terms of service. This same term of service limitation also applies to any DoD authorized subcommittees.

Each Committee member is appointed to provide advice to the government on the basis of his or her best judgment without representing any particular point of view and in a manner that is free from conflict of interest.

The Department, when necessary and consistent with the Committee's mission, may establish subcommittees, task forces, and working groups. Establishment of subcommittees will be based upon a written determination, to include terms of reference, by the Secretary of Defense, the Deputy Secretary of Defense, or the USD(AT&L).

Such subcommittees or panels shall not work independently of the chartered Committee, and shall report their findings and advice solely to the Committee for full deliberation and discussion. Subcommittees or working groups have no authority to make decisions and recommendations verbally or in writing on behalf of the chartered Committee, nor can they report directly or release documents to the Agency or any Federal officers or employees.

All subcommittee members shall be appointed in the same manner as the Committee members; that is, the Secretary of Defense shall appoint subcommittee members even if the member in question is already a Committee member. Subcommittee members, with the approval of the Secretary of Defense, may serve a term of service on the subcommittee of one-to-four years; however, no member shall serve more than two consecutive terms of service on the subcommittee.

Subcommittee members, if not full-time or permanent part-time government employees, shall be appointed to serve as experts and consultants under the authority of 5 U.S.C. § 3109 to serve as SGE members, whose appointments must be renewed by the Secretary of Defense on an annual basis. With the exception of travel and per diem for official Committee-related travel, subcommittee members shall serve without compensation.

All subcommittees operate under the provisions of FACA, the Sunshine Act, governing Federal statutes and regulations, and established DoD policies and procedures.

The Designated Federal Officer (DFO), pursuant to DoD policy, shall be a full-time or permanent part-time DoD employee, and shall be appointed in accordance with established DoD policies and procedures.

In addition, the DFO is required to be in attendance at all committee and subcommittee meetings for the entire duration of each and every meeting. However, in the absence of the Committee's DFO, an Alternate DFO, duly appointed to the Committee according to DoD policies and procedures, shall attend the entire duration of the Committee or subcommittee meeting.

The DFO, or the Alternate DFO, shall call all of the Committee's and subcommittee's meetings; prepare and approve all meeting agendas; adjourn any meeting when the DFO, or the Alternate DFO, determines adjournment to be in the public interest or required by governing regulations or DoD policies and procedures; and chair meetings when directed to do so by the official to whom the Committee reports.

Pursuant to 41 CFR 102-3.105(j) and 102-3.140, the public or interested organizations may submit written statements to the Threat Reduction Advisory Committee membership about the Committee's mission and functions. Written statements may be submitted at any time or in response to the stated agenda of planned meeting of Threat Reduction Advisory Committee.

All written statements shall be submitted to the Designated Federal Officer for the Threat Reduction Advisory Committee, and this individual will ensure that the written statements are provided to the membership for their consideration. Contact information for the Threat Reduction Advisory Committee Designated Federal Officer can be obtained from the GSA's FACA Database— http://www.facadatabase.gov/rpt/search.asp.

The Designated Federal Officer, pursuant to 41 CFR 102-3.150, will announce planned meetings of the Threat Reduction Advisory Committee. The Designated Federal Officer, at that time, may provide additional guidance on the submission of written statements that are in response to the stated agenda for the planned meeting in question.

Dated: July 1, 2013.
Aaron Siegel,
Alternate OSD Federal Register Liaison Officer, Department of Defense.

[FR Doc. 2013-16127 Filed 7-3-13; 8:45 am]

BILLING CODE 5001-06-P